DEPARTMENT OF THE INTERIOR

National Park Service

Notice of Availability of a Record of Decision (ROD) on the Final General Management Plan/Environmental Impact Statement (FGMP/EIS), Castillo de San Marcos National Monument

SUMMARY: The National Park Service (NPR) announces the availability of the ROD on the FGMP/EIS for Castillo de San Marcos National Monument, Florida.

On June 11, 2007, the Regional Director, NPS, Southeast Region, approved the ROD for the project. As soon as practicable, the NPS will begin to implement the FGMP/EIS, described as the Preferred Alternative contained in the FGMP/EIS issued on May 4, 2007. The approved plan will enhance opportunities for visitors to interact with and appreciate the national monument's resources while providing for the preservation and protection of the park's resources when implemented. The approved alternative will enhance the visitor experience by removing some modern intrusions from the Castillo and from the exterior landscapes. The visitor center authorized by Public Law 108-480, pending availability and approval of capital and operational funding, would be constructed off-site and convenient to the park and St. Augustine's Spanish Quarter. The authority for publishing this notice is 42 U.S.C. 4332(2)(C).

DATES: The ROD was signed by the Regional Director, NPS, Southeast Region, on June 11, 2007.

ADDRESSES: Copies of the ROD are available from the Superintendent, Castillo de San Marcos National Monument, 1 South Castillo Drive, St. Augustine, Florida 32084; telephone: 904-829-6506.

FOR FURTHER INFORMATION CONTACT: The Superintendent, Castillo de San Marcos National Monument, at the address and telephone number shown above or David Libman at 404-562-3124, extension 685.

The responsible official for the ROD is Patricia A. Hooks, Regional Director, Southeast Region, National Park Service, 100 Alabama Street, SW., 1924 Building, Atlanta, Georgia 30303.

Dated: August 10, 2007.
Patricia A. Hooks,
Regional Director, Southeast Region.

[FR Doc. 07-4412 Filed 9-7-07; 8:45 am]

BILLING CODE 4312-75-M